DEPARTMENT OF LABOR

Employment and Training Administration

[TA-W-62,459]

Thermo Pressed Laminates Klamath Falls, OR; Notice of Termination of Investigation

Pursuant to section 221 of the Trade Act of 1974, as amended, an investigation was initiated on November 14, 2007 in response to a petition filed by a company official on behalf of workers of Thermo Pressed Laminates, Klamath Falls, Oregon.

The petitioner has requested that the petition be withdrawn. Consequently, the investigation has been terminated.

Signed in Washington, DC, this 12th day of December 2007.
Linda G. Poole.
Certifying Officer, Division of Trade Adjustment Assistance.

[FR Doc. E7-24545 Filed 12-18-07; 8:45 am]

BILLING CODE 4510-FN-P